DEPARTMENT OF DEFENSE

Department of the Army

Command and General Staff College (CGSC) Advisory Committee

AGENCY: Department of the Army, DOD.

ACTION: Notice of meeting.

SUMMARY: In accordance with Section 10(a)(2) of the Federal Advisory Committee Act (Pub. L. 92-463) announcement is made of the following committee meeting:

Name of Committee: U.S. Army Command and General Staff College (CGSC) Advisory Committee.

Dates of Meeting: 19-21 March 2001.

Place of Meeting: Bell Hall, Room 113, Fort Leavenworth, Kansas 66027-1352.

Time of Meeting: 1700-2200 on 19 March 2001; 0730-2100 on 20 March 2001; and 0730-1400 on 21 March 2001.

Proposed Agenda:

1700-2200, 19 March 2001: Review of CGSC educational program.

0730-2100, 20 March 2001: Continuation of review.

0730-1030, 21 March 2001: Continuation of review.

1030-1130, 21 March 2001: Executive Session.

1130-1230, 21 March 2001: Report to Commandant.

FOR FURTHER INFORMATION CONTACT: Dr. Philip J. Brookes, Committee's Executive Secretary, USACGSC Advisory Committee, 1 Reynolds Ave., Bell Hall, Room 119, Fort Leavenworth, Kansas 66027-1352; or phone (913) 684-2741.

SUPPLEMENTARY INFORMATION: The purpose of the meeting is for the Advisory Committee to examine the entire range of college operations and, where appropriate, to provide advice and recommendations to the College Commandant and faculty.

The meeting will be open to the public to the extent that space limitations of the meeting location permit. Because of these limitations, interested parties are requested to reserve space by contacting the Committee's Executive Secretary at the above address or phone number.

Gregory D. Showalter,
Army Federal Register Liaison Officer.

[FR Doc. 01-4643 Filed 2-23-01; 8:45 am]

BILLING CODE 3710-08-P